DEPARTMENT OF HEALTH AND HUMAN SERVICES

National Institutes of Health

National Toxicology Program (NTP); Office of Chemical Nomination and Selection; Announcement of and Request for Public Comment on Toxicological Study Nominations to the NTP; Clarification

AGENCY: National Institute of Environmental Health Sciences (NIEHS), National Institutes of Health.

ACTION: Clarification.

SUMMARY: The NTP is issuing a clarification of a Federal Register notice published on April 11, 2006 (Volume 71, Number 69, pages 18341-18344), because a table summarizing the toxicological study nominations contains several misaligned columns and rows. A correct version of the table is available on the NTP Web site at http://ntp.niehs.nih.gov/go/21134 or by contacting Dr. Scott Masten (see ADDRESSES below).

ADDRESSES: Correspondence should be addressed to Dr. Scott A. Masten, Director, Office of Chemical Nomination and Selection, NIEHS/NTP, 111 T.W. Alexander Drive, P.O. Box 12233, Research Triangle Park, North Carolina 27709; telephone: 919-541-5710; FAX: 919-541-3647; e-mail: masten@niehs.nih.gov.

Dated: April 12, 2006.
David Schwartz,
Director, National Institute of Environmental Health Sciences and National Toxicology Program.

[FR Doc. E6-6121 Filed 4-24-06; 8:45 am]

BILLING CODE 4140-01-P